DEPARTMENT OF THE TREASURY

Office of Foreign Assets Control

Notice of OFAC Sanctions Actions

AGENCY: Office of Foreign Assets Control, Department of the Treasury.

ACTION: Notice.

SUMMARY: The U.S. Department of the Treasury's Office of Foreign Assets Control (OFAC) is publishing the names of persons whose property and interests in property have been unblocked and who have been removed from the list of Specially Designated Nationals and Blocked Persons.

DATES: See Supplementary Information section for applicable date(s).

FOR FURTHER INFORMATION CONTACT: OFAC: Associate Director for Global Targeting, tel: 202-622-2420; Assistant Director for Licensing, tel.: 202-622-2480; Assistant Director for Regulatory Affairs, tel.: 202-622-4855; or Assistant Director for Sanctions Compliance & Evaluation, tel.: 202-622-2490.

SUPPLEMENTARY INFORMATION:

Electronic Availability

The Specially Designated Nationals and Blocked Persons List (SDN List) and additional information concerning OFAC sanctions programs are available on OFAC's website (https://www.treasury.gov/ofac).

Notice of OFAC Actions

On October 1, 2024, OFAC determined that the property and interests in property subject to U.S. jurisdiction of the following persons are unblocked and they have been removed from the SDN List under the relevant sanctions authorities listed below.

Individuals

1. MARTINEZ ARANGO, Oscar Richard, c/o COMERCIALIZADORA DE CARNES CONTINENTAL MGCI LTDA., Bogota, Colombia; DOB 31 Jul 1972; Cedula No. 79634329 (Colombia) (individual) [SDNTK].

2. SLIVNIK, Uros, Malci Beliceve 36, Ljubljana, Slovenia; DOB 05 May 1979; Passport P01095514 (Slovenia) (individual) [SDNTK] (Linked To: VELINVESTMENT D.O.O.; Linked To: SAGAX INVESTMENT GROUP LTD.).

3. PEREGRINA TOBOADA, Jose Antonio (a.k.a. PEREGRINA TOBOADO, Jose Antonio), c/o NUEVA INDUSTRIA DE GANADEROS DE CULIACAN S.A. DE C.V., Culiacan, Sinaloa, Mexico; c/o JAMARO CONSTRUCTORES S.A. DE C.V., Culiacan, Sinaloa, Mexico; Calle Pirul # 439, Privada Balcones de San Miguel, Culiacan, Sinaloa, Mexico; DOB 05 Aug 1958; POB Culiacan, Sinaloa, Mexico; nationality Mexico; citizen Mexico; C.U.R.P. PETA580805HSLRBN09 (Mexico) (individual) [SDNTK].

4. OROZCO RODRIGUEZ, Sergio Armando (a.k.a. “CHOCHO”), Puerto Vallarta, Jalisco, Mexico; DOB 16 Feb 1967; POB Guadalajara, Jalisco, Mexico; nationality Mexico; Gender Male; C.U.R.P. OORS670216HJCRDR04 (Mexico) (individual) [ILLICIT-DRUGS-EO14059].

5. ROSALES MENDOZA, Carlos Alberto (a.k.a. ROSALES MENDOZA, Carlos), Michoacan, Mexico; Petacalco, Guerrero, Mexico; DOB 12 Feb 1963; POB Guerrero, Michoacan; alt. POB El Naranjito, La Union, Guerrero, Mexico; nationality Mexico; citizen Mexico; C.U.R.P. ROMC630212HGRSNR09 (Mexico) (individual) [SDNTK].

Entity

1. COMERCIALIZADORA DE CARNES CONTINENTAL MGCI LTDA. (a.k.a. CARNES EL PROVEEDOR C F P; a.k.a. CARNES LA MUNDIAL M.A), Aut. Sur No. 66-78 of. 74, Bogota, Colombia; NIT # 830108927-9 (Colombia) [SDNTK].

Dated: October 1, 2024.
Lisa M. Palluconi,
Acting Director, Office of Foreign Assets Control.

[FR Doc. 2024-23040 Filed 10-4-24; 8:45 am]

BILLING CODE 4810-AL-P